DEPARTMENT OF TRANSPORTATION

Office of the Secretary

Application of USA Jet Airlines, Inc. for Passenger Certificate Authority

AGENCY: Department of Transportation.

ACTION: Notice of order to show cause (Order 2003-5-10), Dockets OST-02-12987 and OST-02-12989.

SUMMARY: The Department of Transportation is directing all interested persons to show cause why it should not issue an order finding USA Jet Airlines, Inc., fit, willing, and able, and awarding it certificates of public convenience and necessity authorizing it to engage in interstate and foreign charter air transportation of persons, property and mail.

DATES: Persons wishing to file objections should do so no later than May 27, 2003.

ADDRESSES: Objections and answers to objections should be filed in Dockets OST-02-12987 and OST-02-12989 and addressed to the Department of Transportation Dockets (SVC-124.1, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: May 9, 2003.
Read C. Van De Water,
Assistant Secretary for Aviation and International Affairs.

[FR Doc. 03-12171 Filed 5-14-03; 8:45 am]

BILLING CODE 4910-62-P